DEPARTMENT OF JUSTICE

[OMB 1140-NEW]

Agency Information Collection Activities; Proposed eCollection of eComments Requested; New Collection; Semiannual Suitability Request—ATF Form 3252.8

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995.

DATES: Comments are encouraged and will be accepted for 60 days until July 24, 2023.

FOR FURTHER INFORMATION CONTACT: If you have additional comments regarding the estimated public burden or associated response time, suggestions, or need a copy of the proposed information collection instrument with instructions, or additional information, contact: Renee Reid, FO/ESB—Mailstop (7.E-401), either by mail at 99 New York Ave. NE, Washington, DC 20226, by email at Renee.Reid@atf.gov, or by telephone at 202-648-9255.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Abstract: Any individual currently serving a confidential informant (CI) for ATF must provide their personally identifiable information. ATF will utilize the information to verify the identity of the individual.

Overview of This Information Collection

1. Type of Information Collection: New Collection.

2. The Title of the Form/Collection: Semiannual Suitability Request.

3. The agency form number, if any, and the applicable component of the Department sponsoring the collection: Form number: ATF Form 3252.8. Component: Bureau of Alcohol, Tobacco, Firearms and Explosives, U.S. Department of Justice.

4. Affected public who will be asked or required to respond, as well as the obligation to respond: Affected Public: Individuals or households. The obligation to respond is mandatory.

5. An estimate of the total number of respondents and the amount of time estimated for an average respondent to respond: An estimated 800 respondents will provide information to complete this form 2 times annually, and it will take approximately 120 minutes or (2 hours) to complete the form.

6. An estimate of the total public burden (in hours) associated with the collection: The estimated annual public burden associated with this collection is 3,200 hours, which is equal to 800 (total respondents) * 2 (# of responses per respondent) * 2 (120 min.).

7. An estimate of the total annual cost burden associated with the collection: $0.

Activity | Number of respondents | Frequency | Total annual responses | Time per response (hours) | Total annual burden (hours)
ATF Form 3252.8 | 800 | 2 | 1,600 | 2 | 3,200

If additional information is required contact: John R. Carlson, Department Clearance Officer, United States Department of Justice, Justice Management Division, Policy and Planning Staff, Two Constitution Square, 145 N Street NE, 4W-218, Washington, DC.

Dated: May 18, 2023.
John Carlson,
Department Clearance Officer, U.S. Department of Justice.

[FR Doc. 2023-11088 Filed 5-23-23; 8:45 am]

BILLING CODE 4410-FY-P